ENVIRONMENTAL PROTECTION AGENCY

[Docket # EPA-RO4-SFUND-2008-0779, FRL-8737-1]

Camp Branch Road Mercury Site Waynesville, Haywood County, NC; Notice of Settlement

AGENCY: Environmental Protection Agency.

ACTION: Notice of settlement.

SUMMARY: Under section 122(h)(1) of the Comprehensive Environmental Response, Compensation and Liability Act (CERCLA), the United States Environmental Protection Agency has entered into a settlement for past cost concerning the Camp Branch Road Mercury Superfund Site located in Waynesville, Haywood County, North Carolina for publication.

DATES: The Agency will consider public comments on the settlement until December 1, 2008. The Agency will consider all comments received and may modify or withdraw its consent to the settlement if comments received disclose facts or considerations which indicate that the settlement is inappropriate, improper, or inadequate.

ADDRESSES: Copies of the settlement are available from Ms. Paula V. Painter. Submit your comments, identified by Docket ID No. EPA-RO4-SFUND-2008-0779 or Site name Camp Branch Road Mercury Superfund Site by one of the following methods:

• http://www.regulations.gov: Follow the on-line instructions for submitting comments.

• E-mail: Painter.Paula@epa.gov.

• Fax: 404/562-8842/Attn: Paula V. Painter.

FOR FURTHER INFORMATION CONTACT: Paula V. Painter at 404/562-8887.

Dated: October 15, 2008.
Anita L. Davis,
Chief, Superfund Enforcement & Information Management Branch, Superfund Division.

[FR Doc. E8-26008 Filed 10-30-08; 8:45 am]

BILLING CODE 6560-50-P